DEPARTMENT OF DEFENSE

Office of the Secretary

[Docket ID DoD-2021-HA-0127]

Proposed Collection; Comment Request

AGENCY: Office of the Assistant Secretary of Defense for Health Affairs, Department of Defense (DoD).

ACTION: Information collection notice.

SUMMARY: In compliance with the Paperwork Reduction Act of 1995, the Defense Health Agency announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by February 22, 2022.

ADDRESSES: You may submit comments, identified by docket number and title, by any of the following methods:

Federal eRulemaking Portal: http://www.regulations.gov. Follow the instructions for submitting comments.

Mail: DoD cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to the Defense Health Agency, 7700 Arlington Blvd., Falls Church, VA 22042, Terry McDavid, 703-681-3645.

SUPPLEMENTARY INFORMATION:

Title; Associated Form; and OMB Number: TRICARE Select Survey of Civilian Providers; OMB Control Number 0720-0031.

Needs and Uses: As mandated by Congress, the information collection requirement is necessary to determine how many providers are aware of the TRICARE health benefits program, and specifically accept new TRICARE Select patients in each market area. The original requirement is outlined in Section 711 Fiscal Year (FY) 2015 National Defense Authorization Act (NDAA) (Pub. L. 110-181) and was reaffirmed in Section 721 FY12 NDAA (Pub. L. 112-81). Section 712 of FY15 NDAA extended the requirement to conduct the survey from 2017 through 2020. Surveys of civilian physician and non-physician behavioral health care providers will be conducted in a number of locations in the United States each year. Respondents include civilian physicians (M.D.s & D.O.s) and non-physician behavioral health providers (clinical psychologists, clinical social workers and other TRICARE authorized behavioral health providers). The locations surveyed will include areas where the TRICARE Prime benefit is offered (known as TRICARE PRIME Service Areas) and geographic areas where TRICARE Prime is not offered. Respondents will be contacted by mail with a telephone follow-up to complete the survey.

Affected Public: Individuals or households.

Annual Burden Hours: 1,667.

Number of Respondents: 20,000.

Responses per Respondent: 1.

Annual Responses: 20,000.

Average Burden per Response: 5 minutes.

Frequency: Annually.

Dated: December 16, 2021.
Kayyonne T. Marston,
Alternate OSD Federal Register Liaison Officer, Department of Defense.

[FR Doc. 2021-27686 Filed 12-21-21; 8:45 am]

BILLING CODE 5001-06-P